ENVIRONMENTAL PROTECTION AGENCY

40 CFR Chapters I Through VII

[FRL-9283-9; EPA-HQ-OA-2011-0154, -0155, -0156, -0157, -0158, -0159, -0160, -0161, -0162, -0163, -0164, -0165, -0166, -0167, -0168]

Extension of Comment Period: EPA's Plan for Retrospective Review Under Executive Order 13563

AGENCY: Environmental Protection Agency (EPA).

ACTION: Extension of comment period.

SUMMARY: On February 23, 2011, EPA published in the Federal Register a document seeking public input on the design of a plan to use for periodic retrospective review of its regulations (76 FR 9988). This input is being solicited in response to Executive Order 13563, “Improving Regulation and Regulatory Review,” wherein all federal agencies are directed to conduct a “retrospective analysis of rules that may be outmoded, ineffective, insufficient, or excessively burdensome and to modify, streamline, expand, or repeal them in accordance with what has been learned.”

DATES: Comments should be submitted no later than April 4, 2011.

ADDRESSES: You may submit your comments, identified by Docket ID No. EPA-HQ-OA-2011-0154, -0155, -0156, -0157, -0158, -0159, -0160, -0161, -0162, -0163, -0164, -0165, -0166, -0167 or -0168 by any one of the following methods:

• http://www.regulations.gov: Follow the on-line instructions for submitting comments.

• E-mail: ImprovingRegulations.SuggestionBox@epa.gov

• Fax: 202-566-9744

• Mail: Send a copy of your comments and any enclosures to: Improving Regulations Docket, Environmental Protection Agency, EPA Docket Center, Mailcode: 2822T, 1200 Pennsylvania Ave., NW., Washington, DC 20460.

• Hand Delivery: Improving Regulations Docket, EPA/DC, EPA West, Room 3334, 1301 Constitution Ave., NW., Washington, DC. Such deliveries are only accepted during the Docket's normal hours of operation, and special arrangements should be made for deliveries of boxed information.

Instructions: Direct your comments to Docket ID No. EPA-HQ-OA-2011-0154, -0155, -0156, -0157, -0158, -0159, -0160, -0161, -0162, -0163, -0164, -0165, -0166, -0167, -0168. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section II of the SUPPLEMENTARY INFORMATION section of this document.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Improving Regulations Docket, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the Improving Regulations Docket is (202) 566-1752.

FOR FURTHER INFORMATION CONTACT: For further information on this document, please contact Stuart Miles-McLean, Office of Regulatory Policy and Management (1803A), Environmental Protection Agency, 1200 Pennsylvania Avenue, NW., Washington, DC 20460; telephone number: 202-564-6581; fax number: 202-564-7322; e-mail address: ImprovingRegulations.SuggestionBox@epa.gov.

SUPPLEMENTARY INFORMATION: EPA extending its comment period for feedback on the design of its retrospective review plan under Executive Order 13563 to April 4, 2011. To assist you in focusing your comments or recommendations, EPA has provided various categories relating to issue/impact, program area, or a multipurpose general area. These categories are not intended to restrict the issues that you may wish to address. The following list provides the category of each docket. If you wish to submit comments, please select one of the appropriate dockets listed below or send by mail as described in the ADDRESSES section above.

1. Integration and Innovation

Submit a comment on “Improving Regulations: Integration and Innovation” at docket # EPA-HQ-OA-2011-0161.

2. Environmental Justice/Children's Health/Elderly

Submit a comment related to “Improving Regulations: EJ, Children & Elderly” at docket # EPA-HQ-OA-2011-0168.

3. Science/Obsolete/Technology Outdated

Submit a comment on “Improving Regulations: Science/Obsolete/Technology Outdated” at docket # EPA-HQ-OA-2011-0162.

4. State, Local and Tribal Governments

Submit a comment related to “Improving Regulations: State, Local and Tribal governments” at docket # EPA-HQ-OA-2011-0163.

5. Least Burdensome/Flexible Approaches

Provide comment on “Improving Regulations: Least Burden/Flexible Approaches” at docket # EPA-HQ-OA-2011-0165.

6. Benefits and Costs

Submit a comment related to benefits and costs in “Improving Regulations: Benefits and Costs” at docket # EPA-HQ-OA-2011-0158.

7. Small Business

Submit a comment related to “Improving Regulations: Small Business” at docket # EPA-HQ-OA-2011-0164.

8. Compliance

Submit a comment related to “Improving Regulations: Compliance” at docket # EPA-HQ-OA-2011-0166.

9. Economic Conditions/Market

Submit a comment about “Improving Regulations: Economic Conditions/Market” at docket # EPA-HQ-OA-2011-0167.

10. Program Area: Air

Submit a comment about “Improving Regulations: Air” at docket # EPA-HQ-OA-2011-0155.

11. Program Area: Pesticides

Submit a comment about “Improving Regulations: Pesticides” at docket # EPA-HQ-OA-2011-0157.

12. Program Area: Toxic Substances

Submit a comment about “Improving Regulations: Toxic Substances” at docket # EPA-HQ-OA-2011-0159.

13. Program Area: Waste

Submit a comment about “Improving Regulations: Waste” at docket # EPA-HQ-OA-2011-0160.

14. Program Area: Water

Submit a comment about “Improving Regulations: Water” at docket # EPA-HQ-OA-2011-0154.

15. Use the “Improving Regulations: General” docket # EPA-HQ-OA-2011-0156 to submit an idea for how best to promote retrospective analysis of rules. This docket may also be used for any comment that:

• Pertains to more than one issue/impact and/or program area.

• Doesn't relate to any of the other docket categories listed in this section.

EPA welcomes comment and feedback from all parties on the issues listed herein. The Agency is collecting this information for its planning purposes and is not bound to further action or response. All submissions will be made publically available on http://www.regulations.gov.

Dated: March 15, 2011.
Michael Goo,
Associate Administrator, Office of Policy.

[FR Doc. 2011-6413 Filed 3-17-11; 8:45 am]

BILLING CODE 6560-50-P